DEPARTMENT OF ENERGY

Federal Energy Regulatory Commission

[Project No. 14795-002]

Shell Energy North America (US), L.P.; Notice of Meeting

Environmental staff of the Federal Energy Regulatory Commission (Commission) will participate in a meeting, via telephone, with representatives of Shell Energy North America, the Confederated Tribes of the Colville Reservation, and the U.S. Army Corps of Engineers to continue the on-going discussion of potential impacts to cultural resources from the proposed Hydro Battery Pearl Hill Pumped Storage Project. The meeting will be held at the location and time listed below:

Executive Conference Room at the Executive Conference Center at the Spokane International Airport, 9000 W. Airport Drive, Spokane, Washington 99224, (located adjacent to the lower level baggage claim and parking areas), August 30, 2018, 9:30 a.m. to 12:00 p.m. PST, Call-in lines will be available.

Members of the public and intervenors in the referenced proceeding may attend and observe this meeting, in person or via telephone. If tribal representatives decide to disclose information about a specific location which could create a risk or harm to an archeological site or Native American cultural resource, the public will be excused for that portion of the meeting. A summary of the meeting will be entered into the Commission's administrative record.

If you plan to attend this meeting, in person or via telephone, please contact Brent Hicks of HRA Associates (contractor for Shell Energy) at (206) 343-0226 or bhicks@hrassoc.com.

Dated: August 14, 2018.
Kimberly D. Bose,
Secretary.

[FR Doc. 2018-18005 Filed 8-20-18; 8:45 am]

BILLING CODE 6717-01-P